DEPARTMENT OF DEFENSE

Office of the Secretary

[No. DoD-2006-OS-0080]

Proposed Collection; Comment Request

AGENCY: Office of the Under Secretary of Defense (Personnel and Readiness), DoD.

ACTION: Notice.

In compliance with Section 3506(c)(2)(A) of the Paperwork Reduction Act of 1995, the Office of the Under Secretary of Defense (Personnel and Readiness) announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by July 10, 2006.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness)/Military Community and Family Policy/Educational Opportunities Directorate, ATTN: Marc Mossburg, 1525 Wilson Blvd., Rm. 225, Arlington, VA 22209, or call Dr. Marc Mossburg at (703) 588-0899.

Title, Associated Form, and OMB Control Number: Application for Department of Defense Impact Aid for Children with Severe Disabilities; SD Form 816 and SD Form 816C, OMB Control Number 0704-0425.

Needs and Uses: Department of Defense funds are authorized for local educational agencies (LEA)s that educate military dependent students with severe disabilities and meet certain criteria. Eligible LEAs are determined by their responses to the U.S. Department of Education (ED) from information they submitted on children with disabilities, when they completed the Impact Program form for the Department of Education. This application will be requested of LEAs who educate military dependent students with disabilities, who have been deemed eligible for the U.S. Department of Education Impact Aid program, to determine if they meet the criteria to receive additional funds from the Department of Defense due to high special education costs of the military dependents with severe disabilities that they serve.

Affected Public: State, local or tribal government.

Annual Burden Hours: 400.

Number of Respondents: 50.

Responses per Respondent: 1.

Average Burden per Response: 8.

Frequency: On occasion.

SUPPLEMENTARY INFORMATION:

Summary of Information Collection

The National Defense Authorization Act for Fiscal Year 2001, Public Law 106-398, Section 363, authorizes the Secretary of Defense to make payments to each local educational agency (LEA) eligible to receive a payment for a qualifying military dependent child. In order for a local education agency (LEA) to be determined eligible to receive a payment for costs incurred in providing a free appropriate public education to each military [as described in subparagraph (A)(i), (B), (D)(ii) of section 8003(a)(1) of the Elementary and Secondary Education Act of 1965 (20 U.S.C. 7703(a)(1))], the LEA must provide educational and related services to two or more children with severe disabilities, and satisfy certain criteria. Payments will be made by the Department of Defense to LEAs only on behalf of each such child whose individual educational or related services costs exceeds either (a) five times the national or State average per pupil expenditure (whichever is lower) for an out-of-district special education (SPED) program, or (b) three times the State average per pupil expenditure for SPED programs offered by the district or within the district boundaries. The Application for Department of Defense Impact Aid for Children with Severe Disabilities, SD Form 816 and SD Form 816C, provides the format for eligible LEAs to submit information on high costs of educating military dependent children with severe disabilities. When the appropriate information is received, the Department of Defense will be able to determine eligibility and calculate payments for eligible LEAs who have high costs for educating military dependent children with severe disabilities.

Dated: May 2, 2006.
Patricia L. Toppings,
Alternate OSD Federal Register Liaison Officer, Department of Defense.

[FR Doc. 06-4379 Filed 5-10-06; 8:45 am]

BILLING CODE 5001-06-M